DEPARTMENT OF COMMERCE

International Trade Administration

[A-570-975]

Galvanized Steel Wire From the People's Republic of China: Amended Preliminary Determination of Sales at Less Than Fair Value

AGENCY: Import Administration, International Trade Administration, Department of Commerce.

DATES: Effective Date: November 29, 2011.

SUMMARY: On November 4, 2011, the Department of Commerce (“Department”) published the preliminary determination of sales at less than fair value in the antidumping investigation of galvanized steel wire from the People's Republic of China (“PRC”).¹ We are amending our Preliminary Determination to correct certain ministerial errors with respect to the antidumping duty margin calculation for the Baozhang entity.² The corrections to the Baozhang entity's margin also affect the margin assigned to companies receiving a separate rate.

¹ See Preliminary Determination of Sales at Less Than Fair Value and Postponement of Final Determination: Galvanized Steel Wire from the People's Republic of China, 76 FR 68407 (November 4, 2011) (“Preliminary Determination”).

² The Baozhang entity consists of Shanghai Bao Zhang Industry Co., Ltd. and Anhui Bao Zhang Metal Products Co., Ltd. (“Anhui Baozhang”), See Preliminary Determination at 68413.

FOR FURTHER INFORMATION CONTACT: Katie Marksberry, AD/CVD Operations, Office 9, Import Administration, International Trade Administration, U.S. Department of Commerce, 14th Street and Constitution Avenue NW., Washington, DC 20230; telephone: (202) 482-7906.

SUPPLEMENTARY INFORMATION: On November 4, 2011, Petitioners ³ filed a timely allegation of a ministerial error contained in the Department's Preliminary Determination.⁴

³ Davis Wire Corporation, Johnstown Wire Technologies, Inc., Mid-South Wire Company, Inc., National Standard, LLC and Oklahoma Steel & Wire Company, Inc. (collectively, “Petitioners”).

⁴ See Letter to the Department from Petitioners Re: Antidumping Investigation of Galvanized Steel Wire from the People's Republic of China—Petitioners' Ministerial Error Comment Regarding Preliminary Determination for Bao Zhang Companies, dated November 4, 2011.

After reviewing the allegation, we have determined that the Preliminary Determination included a significant ministerial error. Therefore, in accordance with 19 CFR 351.224(e), we have made a change, as described below, to the Preliminary Determination.

Period of Investigation

The period of investigation (“POI”) is July 1, 2010, through December 31, 2010. This period corresponds to the two most recent fiscal quarters prior to the month of the filing of the petition (March 31, 2011).⁵

⁵ See 19 CFR 351.204(b)(1).

Scope of Investigation

The scope of this investigation covers galvanized steel wire which is a cold-drawn carbon quality steel product in coils, of solid, circular cross section with an actual diameter of 0.5842 mm (0.0230 inch) or more, plated or coated with zinc (whether by hot-dipping or electroplating).

Steel products to be included in the scope of this investigation, regardless of Harmonized Tariff Schedule of the United States (“HTSUS”) definitions, are products in which: (1) Iron predominates, by weight, over each of the other contained elements; (2) the carbon content is two percent or less, by weight; and (3) none of the elements listed below exceeds the quantity, by weight, respectively indicated:

—1.80 percent of manganese, or

—1.50 percent of silicon, or

—1.00 percent of copper, or

—0.50 percent of aluminum, or

—1.25 percent of chromium, or

—0.30 percent of cobalt, or

—0.40 percent of lead, or

—1.25 percent of nickel, or

—0.30 percent of tungsten, or

—0.02 percent of boron, or

—0.10 percent of molybdenum, or

—0.10 percent of niobium, or

—0.41 percent of titanium, or

—0.15 percent of vanadium, or

—0.15 percent of zirconium.

Specifically excluded from the scope of this investigation is galvanized steel wire in coils of 15 feet or less which is pre-packed in individual retail packages. The products subject to this investigation are currently classified in subheadings 7217.20.30 and 7217.20.45 of the HTSUS which cover galvanized wire of all diameters and all carbon content. Galvanized wire is reported under statistical reporting numbers 7217.20.3000, 7217.20.4510, 7217.20.4520, 7217.20.4530, 7217.20.4540, 7217.20.4550, 7217.20.4560, 7217.20.4570, and 7217.20.4580. These products may also enter under HTSUS subheadings 7229.20.0015, 7229.20.0090, 7229.90.5008, 7229.90.5016, 7229.90.5031, and 7229.90.5051. Although the HTSUS subheadings are provided for convenience and customs purposes, the written description of the merchandise is dispositive.

Significant Ministerial Error

Ministerial errors are defined in 19 CFR 351.224(f) as “an error in addition, subtraction, or other arithmetic function, clerical error resulting from inaccurate copying, duplication, or the like, and any other similar type of unintentional error which the Secretary considers ministerial.” 19 CFR 351.224(e) provides that the Department “will analyze any comments received and, if appropriate, correct any significant ministerial error by amending the preliminary determination.” A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.⁶

⁶ See 19 CFR 351.224(g).

Ministerial Error Allegation

Truck Freight for Baozhang

Petitioners argue that the Department incorrectly applied the surrogate value for truck freight on a per-kilogram basis, rather than on a per-metric ton basis, because the Baozhang entity reported its factors of production (“FOPs”) on a per-metric ton basis and the Department calculated the Baozhang entity's margin on a per-metric ton basis. Petitioners request that the Department correct this error by converting the surrogate value for truck freight to a per-metric ton basis. Further, Petitioners contend that correcting this error would result in a significantly higher weight-averaged dumping margin for the Baozhang entity.

We agree that the Department did not apply the correct unit of measure to the truck freight surrogate value. Moreover, we determine that this error is a “significant ministerial error” as defined in 19 CFR 351.224(g)(1). Accordingly, we have corrected the error.⁷ As a result of correcting the above error in the Baozhang entity's margin, the margin for the companies granted separate-rate status must also be revised because the margin for those companies was partially derived from the Baozhang entity's margin.⁸ The rate for the PRC-wide entity does not change.

⁷ See Memorandum to the File from Katie Marksberry, Case Analyst: Program Analysis for the Amended Preliminary Determination of Antidumping Duty Investigation of Galvanized Steel Wire from the People's Republic of China: Anhui Baozhang Metal Products Limited, dated concurrently with this Federal Register notice.

⁸ See Memorandum to the File from Katie Marksberry, Case Analyst: Investigation of Galvanized Steel Wire from the People's Republic of China: Amended Preliminary Weight-Averaged Margin for Separate Rate Companies, dated concurrently with this Federal Register notice.

Amended Preliminary Determination

As a result of the correction of the ministerial error, the weighted-average dumping margins for the Baozhang entity and the separate rate companies are as follows:

Galvanized Steel Wire From the PRC
Exporter | Producer | Weighted-average margin (percent)
Tianjin Honbase Machinery Manufactory Co., Ltd | Tianjin Honbase Machinery Manufactory Co., Ltd | 131.84
Anhui Bao Zhang Metal Products Co., Ltd | Anhui Bao Zhang Metal Products Co., Ltd | 99.87
Shanghai Bao Zhang Industry Co., Ltd | Shanghai Bao Zhang Industry Co., Ltd | 99.87
Shanghai Bao Zhang Industry Co., Ltd | Anhui Bao Zhang Metal Products Co., Ltd | 99.87
Anhui Bao Zhang Metal Products Co., Ltd | Shanghai Bao Zhang Industry Co., Ltd | 99.87
Shijiazhuang Kingway Metal Products Co., Ltd | Shijiazhuang Kingway Metal Products Co., Ltd | 129.11
Shanxi Yuci Broad Wire Products Co., Ltd | Shanxi Yuci Broad Wire Products Co., Ltd | 129.11
Huanghua Jinhai Hardware Products Co., Ltd | Huanghua Jinhai Hardware Products Co., Ltd | 129.11
Huanghua Jinhai Import & Export Trading Co., Ltd | Huanghua Jinhai Hardware Products Co., Ltd | 129.11
Guizhou Wire Rope Incorporated Company | Guizhou Wire Rope Incorporated Company | 129.11
Hebei Minmetals Co., Ltd | Huanghua Jinhai Hardware Products Co., Ltd | 129.11
Hebei Minmetals Co., Ltd | Huanghua Huarong Hardware Co., Ltd | 129.11
Hebei Minmetals Co., Ltd | Shandong Jining Lianzhong Hardware Products Co., Ltd | 129.11
Shandong Minmetals Co., Ltd | Huanghua Jinhai Hardware Products Co., Ltd | 129.11
Shandong Minmetals Co., Ltd | Huanghua Xincheng Metal Products Co., Ltd | 129.11
Shandong Minmetals Co., Ltd | Tianjin Shi Dagangqu Yuliang XianCaichang | 129.11
Shandong Minmetals Co., Ltd | Tianjin Hengfeng Metal Wire Co., Ltd | 129.11
Shandong Minmetals Co., Ltd | Tianjin Shi Jinghai Yicheng Hardware Products Co., Ltd | 129.11
Fasten Group Imp. & Exp. Co., Ltd | Jiangsu Fasten Stock Co., Ltd | 129.11
Fasten Group Imp. & Exp. Co., Ltd | Zhangjiagang Guanghua Communication Cable Materials Co., Ltd | 129.11
Fasten Group Imp. & Exp. Co., Ltd | Zhangjiagang Kaihua Metal Products Co., Ltd | 129.11
Qingdao Ant Hardware Manufacturing Co., Ltd | Qingdao Ant Hardware Manufacturing Co., Ltd | 129.11
Suntec Industries Co., Ltd | Tianjin Jinnan 4th Wire Factory | 129.11
Suntec Industries Co., Ltd | Tianjin Yinshan Manufacture & Trade Co., Ltd | 129.11
Suntec Industries Co., Ltd | Tianjin Zhaohong Metal Products Co., Ltd | 129.11
Suntec Industries Co., Ltd | Tianjin Wandai Metal Products Co., Ltd | 129.11
Suntec Industries Co., Ltd | Tianjin Dagang Wire Factory | 129.11
Suntec Industries Co., Ltd | Tianjin Jinghai Yicheng Metal Products Co., Ltd | 129.11
Suntec Industries Co., Ltd | Tianjin Liquan Metal Products Co., Ltd | 129.11
Suntec Industries Co., Ltd | Tianjin Huayuan Times Metal Products Co., Ltd | 129.11
Suntec Industries Co., Ltd | Tianjin Fusheng Metal Products Co., Ltd | 129.11
M & M Industries Co., Ltd | Tianjin Huayuan Times Metal Products Co., Ltd | 129.11
M & M Industries Co., Ltd | Tianjin Huayuan Metal Wire Products Co., Ltd | 129.11
M & M Industries Co., Ltd | Tianjin Tianxin Metal Products Co., Ltd | 129.11
M & M Industries Co., Ltd | Tianjin Jinghai County Yongshun Metal Products Mill | 129.11
M & M Industries Co., Ltd | Huanghua Jinhai Hardware Products Co., Ltd | 129.11
Shaanxi New Mile International Trade Co., Ltd | Tianjin Huayuan Metal Wire Products Co., Ltd | 129.11
Shaanxi New Mile International Trade Co., Ltd | Tianjin Jinghai Yicheng Metal Products Co., Ltd | 129.11
Shaanxi New Mile International Trade Co., Ltd | Tianjin Zhaohong Metal Products Co., Ltd | 129.11
Shaanxi New Mile International Trade Co., Ltd | Tianjin Lianxing Metal Products Co., Ltd | 129.11
Shaanxi New Mile International Trade Co., Ltd | Tianjin Beichen Gangjiaoxian Metal Products Co., Ltd, Fuli Branch | 129.11
Shaanxi New Mile International Trade Co., Ltd | Shenzhou Hongli Metal Products Co., Ltd | 129.11
Hebei Cangzhou New Century Foreign Trade Co., Ltd | Tianjin Huayuan Metal Wire Products Co., Ltd | 129.11
Hebei Cangzhou New Century Foreign Trade Co., Ltd | Tianjin Randa Metal Products Factory | 129.11
Hebei Cangzhou New Century Foreign Trade Co., Ltd | Tianjin Jinghai Yicheng Metal Products Co., Ltd | 129.11
Hebei Cangzhou New Century Foreign Trade Co., Ltd | Tianjin Jinghai Hongjiufeng Wire Products Co., Ltd | 129.11
Hebei Cangzhou New Century Foreign Trade Co., Ltd | Huanghua Jinhai Hardware Products Co., Ltd | 129.11
Dezhou Hualude Hardware Products Co., Ltd | Tianjin Jinghai Yicheng Metal Products Co., Ltd | 129.11
Dezhou Hualude Hardware Products Co., Ltd | Tianjin Yinshan Industry and Trade Co., Ltd | 129.11
Dezhou Hualude Hardware Products Co., Ltd | Tianjin Zhenyuan Industry and Trade Co., Ltd | 129.11
Dezhou Hualude Hardware Products Co., Ltd | Dingzhou Xuri Metal Products Factory | 129.11
Dezhou Hualude Hardware Products Co., Ltd | Huanghua Jinhai Hardware Products Co., Ltd | 129.11
Dezhou Hualude Hardware Products Co., Ltd | Tianjin Dagang Wire Mill | 129.11
Dezhou Hualude Hardware Products Co., Ltd | Tianjin Huayuan Industrial Company | 129.11
Dezhou Hualude Hardware Products Co., Ltd | Hebei Yongwei Metal Products Co., Ltd | 129.11
Dezhou Hualude Hardware Products Co., Ltd | Tianjin Guanshun Metal Products Co., Ltd | 129.11
Shanghai SETI Enterprise International Co., Ltd | Shanghai Xiaoyu Metal Products Co., Ltd | 129.11
Xi'an Metals and Minerals Import and Export Co., Ltd | Tianjin Jinyongtai Hardware Products Co., Ltd | 129.11
Xi'an Metals and Minerals Import and Export Co., Ltd | Tianjin Hengfeng Metal Wire Co., Ltd | 129.11
Xi'an Metals and Minerals Import and Export Co., Ltd | Shenzhou City Hongli Hardware Manufacturing Co., Ltd | 129.11
Xi'an Metals and Minerals Import and Export Co., Ltd | Tianjin Dagang Jinding Metal Products Factory | 129.11
PRC-wide Rate ⁹ |  | 235.00

The collection of bonds or cash deposits and suspension of liquidation instructions will be revised accordingly and parties will be notified of this determination, in accordance with section 733(d) and (f) of the Tariff Act of 1930, as amended (“Act”).

⁹ The PRC-wide entity covers all companies not receiving a separate rate, including: Tianjin Huayuan Metal Wire Products Co., Ltd; Tianjin Meijiahua Trade Co., Ltd; Tianjin Huayuan Times Metal Products Co., Ltd.; Tianjin Tianxin Metal Products Co., Ltd.;Tianjin Jinghai Yicheng Metal Products Co., Ltd.; .Anping Shuangmai Metal Products Co., Ltd.; Anping Xinhong Wire Mesh Co Ltd.; Beijing Catic Industry Limited; Benxi Wasainuo Metal Packaging Production Co., Ltd.; China National Electronics Imp. & Exp. Ningbo Co., Ltd.; Easen Corp.; Ecms O/B Tianjin Huayuan Metal Wire; Hebei Dongfang Hardware And Mesh Co., Ltd.; Hebei Longda Trade Co., Ltd.; Huanghua Yufutai Hardware Products Co., Ltd.; Maccaferri (Changsha) Enviro-Tech Co.; Nantong Long Yang International Trade Co., Ltd.; Shandong Hualing Hardware & Tools Co. Ltd.; Shanghai Multi-development Enterprises; Shanghai Suntec Industries Co., Ltd.; Tianjin Jing Weida International Trade Co., Ltd.; Tianjin Pcss Trading Co., Ltd.; and Weifang Hecheng International Trade Co., Ltd.

International Trade Commission Notification

In accordance with section 733(f) of the Act, we have notified the International Trade Commission (“ITC”) of our amended preliminary determination. If our final determination is affirmative, the ITC will make its final determination as to whether the domestic industry in the United States is materially injured, or threatened with material injury, by reason of imports of galvanized steel wire, or sales (or the likelihood of sales) for importation, of the merchandise under investigation, within 45 days of our final determination.

This determination is issued and published in accordance with sections 733(f), and 777(i) of the Act and 19 CFR 351.224(e). The PRC-wide rate is unchanged from the Preliminary Determination.

Dated: November 18, 2011.
Paul Piquado,
Assistant Secretary for Import Administration.

[FR Doc. 2011-30751 Filed 11-28-11; 8:45 am]

BILLING CODE 3510-DS-P